SMALL BUSINESS ADMINISTRATION

[Disaster Declaration # 13667 and # 13668]

New York Disaster Number NY-00136

AGENCY: U.S. Small Business Administration.

ACTION: Amendment 2.

SUMMARY: This is an amendment of the Presidential declaration of a major disaster for Public Assistance Only for the State of New York (FEMA-4129-DR), dated 07/12/2013.

Incident: Severe Storms and Flooding.

Incident Period: 06/26/2013 through 07/04/2013.

Effective Date: 07/26/2013.

Physical Loan Application Deadline Date: 09/10/2013.

Economic Injury (EIDL) Loan Application Deadline Date: 04/14/2014.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of NEW YORK, dated 07/12/2013, is hereby amended to include the following areas as adversely affected by the disaster.

Primary Counties: Broome; Chautauqua; Clinton; Essex.

All other information in the original declaration remains unchanged.

(Catalog of Federal Domestic Assistance Numbers 59002 and 59008)

James E. Rivera,
Associate Administrator for Disaster Assistance,

[FR Doc. 2013-18891 Filed 8-5-13; 8:45 am]

BILLING CODE 8025-01-P